DEPARTMENT OF ENERGY

Federal Energy Regulatory Commission

[Docket No. ER01-1099-002, et al.]

Cleco Power LLC, et al. Electric Rate and Corporate Regulation Filings

June 21, 2001.

Take notice that the following filings have been made with the Commission:

1. Cleco Power LLC

[Docket No. ER01-1099-002]

Take notice that Cleco Power LLC (Cleco Power), on June 6, 2001, tendered for filing a letter requesting an additional 90 days to comply with the Commission's order in Cleco Power LLC, Docket Nos. ER01-1099-000 and ER01-1099-001, issued March 28, 2001, instructing Cleco Power to bring all of its tariffs, rate schedules and service agreements into compliance with the Commission's Order 614, issued March 31, 2000, by June 25, 2001.

By means of a merger, effective December 31, 2000, Cleco Utility reorganized its corporate form from that of a corporation to that of a limited liability company named Cleco Power LLC; this pursuant to the Commission's order in Cleco Utility Group Inc., Docket No. EC00-142-000, issued November 30, 2000. Pursuant to the Commission's Order 614 and the March 28, 2000 Order, all of Cleco Utility's rate schedules are to be canceled; amended to reflect the Cleco Power name and to comply with Order 614; and refiled as Cleco Power rate schedules.

On June 1, 2001 Cleco Power canceled Cleco Utility's Open Access Transmission Tariff (OATT) and Market-Based Rates Tariff and submitted essentially the same OATT and Market-Based Rates Tariff as Cleco Power's tariffs. Cleco Power will cancel most of Cleco Utility's rate schedules and refile them as Cleco Power rate schedules by the June 25, 2001 deadline. However, Cleco Power requested an additional 90 days to file the following rate schedules as well as the service agreements under its OATT and Market-Based Rates Tariff:

RS1 | RS6 | RS17
RS2 | RS12 | RS18

Comment date: July 5, 2001, in accordance with Standard Paragraph E at the end of this notice.

2. Wheelabrator Westchester, L.P.

[Docket No. ER98-3030-001]

Take notice that on June 18, 2001, Wheelabrator Westchester, L.P., formerly known as Westchester RESCO Company, L.P., (Westchester) a Qualifying Facility selling power at wholesale pursuant to market-based rate authority granted to it by the Federal Energy Regulatory Commission, tendered for filing an updated market power analysis in compliance with the Commission's June 18, 1998, letter order in Docket No. ER98-3030-000.

Questions concerning this filing may be directed to counsel for Westchester, Lawrence W. Plitch, 650 Grove Street, Newton Lower Falls, Massachusetts 02462-1319, Phone (617) 244-7491, Fax (617) 244-4878, e-mail stratergy@mediaone.net.

Comment date: July 9, 2001, in accordance with Standard Paragraph E at the end of this notice.

3. Consumers Energy Company

[Docket No ER01-1587-002]

Take notice that on June 18, 2001, Consumers Energy Company (Consumers) tendered for filing under protest the following tariff sheets as part of its FERC Electric Tariff No. 6 and the following Service Agreement under its FERC Electric Tariff No. 6 in compliance with the May 17, 2001 order issued in this proceeding, First Revised Sheet Nos. 142 and 171 and Substitute Service Agreement No. 62. Copies of the filing were served upon the Michigan Public Service Commission and those on the official service list in this proceeding.

The sheets are to have an effective date of May 17, 2001. The Service Agreement is to have an effective date of March 21, 2001.

4. Illinois Power Company

[Docket No. ER01-1842-001]

Take notice that on June 18, 2001, Illinois Power Company, filed with the Commission a service agreement designation as required by Order No. 614 and the Letter Order issued on May 29, 2001 in this docket.

Comment date: July 9, 2001, in accordance with Standard Paragraph E at the end of this notice.

5. Arizona Public Service Company

[Docket No. ER01-2340-000]

Take notice that on June 18, 2001, Arizona Public Service Company (APS) tendered for filing umbrella Service Agreements to provide Short-Term Firm and Non-Firm Point-to-Point Transmission Service to City of Burbank, Burbank Water and Power, and Axia Energy under APS' Open Access Transmission Tariff.

A copy of this filing has been served on City of Burbank, Burbank Water and Power, Axia Energy and the Arizona Corporation Commission.

Comment date: July 9, 2001, in accordance with Standard Paragraph E at the end of this notice.

6. Maine Public Service Company

[Docket No. ER01-2341-000]

Take notice that on June 18, 2001, Maine Public Service Company (Maine Public) filed an executed Service Agreement for Firm Point-To-Point Transmission Service under Maine Public's open access transmission tariff with Axia Energy, LP.

Comment date: July 9, 2001, in accordance with Standard Paragraph E at the end of this notice.

7. Maine Public Service Company

[Docket No. ER01-2342-000]

Take notice that on June 18, 2001, Maine Public Service Company (Maine Public) filed an executed Service Agreement for Non-Firm Point-To-Point Transmission Service under Maine Public's open access transmission tariff with Axia Energy, LP.

Maine Public requests that the enclosed agreement become effective on May 23, 2001.

Comment date: July 9, 2001, in accordance with Standard Paragraph E at the end of this notice.

8. Ameren Services Company

[Docket No. ER01-2343-000]

Take notice that on June 18, 2001, Ameren Services Company filed a notice of its cancellation of the Non-Firm Point-to-Point Transmission Service Agreement dated December 15, 1997. Notice of the proposed cancellation has been served upon the El Paso Merchant Energy, L.P., and the formerly Engage Energy US, L.P.

Comment date: July 9, 2001, in accordance with Standard Paragraph E at the end of this notice.

9. Ameren Services Company

[Docket No. ER01-2344-000]

Take notice on June 18, 2001, Ameren Services Company filed a notice of its cancellation of the Non-Firm Point-to-Point Transmission Service Agreement dated July 18, 2000. Notice of the proposed cancellation has been served upon the El Paso Merchant Energy, L.P and the formerly Engage Energy US, L.P.

Comment date: July 9, 2001, in accordance with Standard Paragraph E at the end of this notice.

10. Ameren Service Company

[Docket No. ER01-2345-000]

Take notice that on June 18, 2001, Ameren Services Company filed a notice of the cancellation of the Firm Point-to-Point Transmission Service Agreement dated July 18, 2000. Notice of the proposed cancellation has been served upon the El Paso Merchant Energy, L.P., and the formerly Engage Energy US, L.P.

Comment date: July 9, 2001, in accordance with Standard Paragraph E at the end of this notice.

11. Ameren Services Company

[Docket No. ER01-2346-000]

Take notice that on June 18, 2001, Ameren Services Company filed a notice of the cancellation of the Non-Firm Point-to-Point Transmission Service Agreement dated January 1, 1997. Notice of the proposed cancellation has been served upon Consumers Power Company d/b/a Consumers Energy Company, and The Detroit Edison Company.

Comment date: July 9, 2001, in accordance with Standard Paragraph E at the end of this notice.

12. Ameren Services Company

[Docket No. ER01-2347-000]

Notice is hereby given that effective as of March 31, 2001 the Firm Point-to-Point Transmission Service Agreement dated October 6, 1998 (Docket No. ER 99-311-000) filed with the Federal Energy Regulatory Commission by Ameren Services Company is to be canceled.

Notice of the proposed cancellation has been served upon the Consumers Energy Company and the Detroit Edison Company.

Comment date: July 9, 2001, in accordance with Standard Paragraph E at the end of this notice.

13. New England Power Pool

[Docket No. ER01-2348-000]

Take notice that on June 18, 2001, the New England Power Pool (NEPOOL) Participants Committee filed for acceptance materials to permit NEPOOL to reimburse for certain customers participating in NEPOOL's approved Load Response Program the monthly costs for a required Internet-Based Communications System. The Participants Committee states that copies of these materials were sent to the New England state governors and regulatory commissions and the Participants in NEPOOL.

The Participants Committee requests an effective date of June 18, 2001.

Comment date: July 9, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-16220 Filed 6-27-01; 8:45 am]

BILLING CODE 6717-01-P